DEPARTMENT OF LABOR

Employment and Training Administration

[TA-W-61,254]

American & Efird, Inc., d/b/a Robison and Anton Textile Company, Fairview Division, Fairview, NJ; Amended Certification Regarding Eligibility To Apply for Worker Adjustment Assistance and Alternative Trade Adjustment Assistance

In accordance with Section 223 of the Trade Act of 1974 (19 U.S.C. 2273) the Department of Labor issued a Certification of Eligibility to Apply for Worker Adjustment Assistance and a Negative Determination Regarding Eligibility to Apply for Alternative Trade Adjustment Assistance on May 10, 2007, applicable to workers of American & Efird, Inc., d/b/a Robison Anton Textile Company, Fairview Division, Fairview, New Jersey. The notice was published in the Federal Register on May 24, 2007 (72 FR 29181).

At the request of a company official, the Department reviewed the certification for workers of the subject firm. The workers were engaged in the production of embroidery thread and yarn.

In a request for an amendment, the company provided sufficient information to confirm that the skills of the workers at the subject firm are not easily transferable in the local commuting area.

Information obtained also indicates that a significant number of workers of the subject firm are age 50 or over, workers have skills that are not easily transferable, and conditions in the industry are adverse. Review of this information shows that all eligibility criteria under Section 246 of the Trade Act of 1974 (26 U.S.C. 2813), as amended have been met.

Accordingly, the Department is amending the certification to reflect its finding.

The amended notice applicable to TA-W-61,254 is hereby issued as follows:

“All workers of American & Efird, Inc., d/b/a Robison Anton Textile Company, Fairview Division, Fairview, New Jersey, who became totally or partially separated from employment on or after April 5, 2006 through May 10, 2009, are eligible to apply for adjustment assistance under Section 223 of the Trade Act of 1974 and are also eligible to apply for Alternative Trade Adjustment Assistance under Section 246 of the Trade Act of 1974.”

Signed at Washington, DC, this 13th day of June 2007.
Richard Church,
Certifying Officer, Division of Trade Adjustment Assistance.

[FR Doc. E7-11838 Filed 6-19-07; 8:45 am]

BILLING CODE 4510-FN-P